DEPARTMENT OF HEALTH AND HUMAN SERVICES

National Institutes of Health

Proposed Collection; Comment Request; Application for Collaboration With the NIH Center for Translational Therapeutics (NCTT)

SUMMARY: In compliance with the requirement of Section 3506(c)(2)(A) of the Paperwork Reduction Act of 1995, for opportunity for public comment on proposed data collection projects, the (insert name of NIH Institute or Center), the National Institutes of Health (NIH) will publish periodic summaries of proposed projects to be submitted to the Office of Management and Budget (OMB) for review and approval.

Proposed Collection: Title: Application for collaboration with the NIH Center for Translational Therapeutics (NCTT). Type of Information Collection Request: NEW. Need and Use of Information Collection: Programs at the NCTT provide opportunities to partner with and gain access to both common and specifically rare and neglected disease through a variety of programs delivering assay development, screening, hit to lead chemistry, lead optimization, chemical biology studies, drug development capabilities, expertise, and clinical/regulatory resources in a collaborative environment with the goal of moving promising therapeutics into human clinical trials. NCTT uses an application and evaluation process to select collaborators. Selected investigators provide the drug project starting points and ongoing biological/disease expertise throughout the project. Frequency of Response: Four per year. Affected Public: Research scientists. Type of Respondents: Academic scientists, industry, not-for-profits, government organizations, patient groups. The annual reporting burden is as follows: Estimated Number of Respondents: 170. Estimated Number of Responses per Respondent: 1. Average Burden Hours Per Response: 4. Estimated Total Annual Burden Hours Requested: 680.

Type of respondents | Estimated number of respondents | Estimated number of responses per respondent | Average burden hours per response | Estimated total annual burden hours requested
Applicants | 170 | 1 | 4 | 680

The annualized cost to respondents is estimated at: $68,000. Capital Costs are $0. Operating Cost is roughly $15,000 for the database to accept and coordinate responses.

Request For Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Dr. John McKew, Chief, Preclinical Development Branch, NIH Center for Translational Therapeutics, 9800 Medical Center Drive, Building B, Rockville, MD 20850.

Comments Due Date: Comments regarding this information collection are best assured of having their full effect if received within 60-days of the date of this publication.

Dated: November 1, 2011.
John McKew,
Chief, Preclinical Development Branch, NIH Center for Translational Therapeutics, National Human Genome Research Institute, National Institutes of Health.

[FR Doc. 2011-28965 Filed 11-8-11; 8:45 am]

BILLING CODE 4140-01-P